DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Groundfish Tagging Program.

OMB Control Number: 0648-0276.

Form Number(s): None.

Type of Request: Regular submission.

Number of Respondents: 175.

Average Hours per Response: 5 minutes for a regular tag; 30 minutes for an archival (implanted electronic) tag.

Burden Hours: 41.

Needs and Uses: The North Pacific Fishery Management Council (Council) has prepared groundfish Fishery Management Plans (FMP) for the following fisheries in the exclusive economic zone (EEZ) off Alaska: Groundfish fisheries in the Gulf of Alaska (GOA) EEZ under the Fishery Management Plan for Groundfish of the Gulf of Alaska and groundfish fisheries in the Bering Sea and Aleutian Islands EEZ under the Fishery Management Plan for the Groundfish Fishery of the Bering Sea and Aleutian Islands Area. These FMPs are implemented by regulations at 50 CFR part 679. General regulations that also pertain to these fisheries appear in subpart H of 50 CFR part 600.

As part of these plans, the Groundfish Tagging Program provides scientists with information necessary for effective conservation, management, and scientific understanding of the groundfish fishery off Alaska and the Northwest Pacific. The program area includes the Pacific Ocean off Alaska (the Gulf of Alaska, the Bering Sea and Aleutian Islands Area, the Alexander Archipelago of Southeast Alaska), California, Oregon, and Washington. Distribution, movement rates and direction, growth, recruitment and mortality estimated from tag recoveries are important parameters used in groundfish population assessment models and in developing allocation systems.

Affected Public: Business or other for-profit organizations.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 14, 2009.
Gwellnar Banks,
Management Analyst, Office of the Chief Information Officer.

[FR Doc. E9-17042 Filed 7-16-09; 8:45 am]

BILLING CODE 3510-22-P